DEPARTMENT OF THE INTERIOR

Bureau of Land Management

[BLM_Wyoming_FRN_MO4500168505]

Notice of Termination of Preparation of Environmental Impact Statement for the Hiawatha Regional Energy Development Project, Wyoming

AGENCY: Bureau of Land Management, Interior.

ACTION: Notice of termination.

SUMMARY: The preparation of an Environmental Impact Statement (EIS) for Hiawatha Regional Energy Development Project is no longer required, and the process is hereby terminated.

DATES: The EIS development process for Hiawatha Regional Energy Development Project is terminated immediately.

FOR FURTHER INFORMATION CONTACT: T.J. Franklin, Supervisory Natural Resource Specialist, Rock Springs Field Office, tjfranklin@blm.gov, 307-352-0318. Individuals in the United States who are deaf, deafblind, hard of hearing, or have a speech disability may dial 711 (TTY, TDD, or TeleBraille) to access telecommunications relay services for contacting Mr. Franklin. Individuals outside the United States should use the relay services offered within their country to make international calls to the point-of-contact in the United States.

SUPPLEMENTARY INFORMATION: On September 6, 2006, the BLM initiated analysis of the Hiawatha Regional Energy Development Project by publishing in the Federal Register a Notice of Intent to prepare an EIS and hold an associated scoping period (71 FR 52571). The EIS would have analyzed the No Action Alternative and three action alternatives, focused on achieving full field development in line with resource concerns.

The original Hiawatha Regional Energy Development Project proposal, submitted by Questar Exploration and Production Company and Wexpro Company, involved drilling about 4,208 wells and associated infrastructure such as well pads, production and storage equipment, and access roads on approximately 157,361 acres of existing oil and gas leases managed by BLM Wyoming and BLM Colorado, the States of Wyoming and Colorado, and private landowners in both states over a 20- to 30-year time period. The BLM administers approximately 143,159 surface acres of the original proposed project area. The State of Wyoming manages 6,338 acres, the State of Colorado manages 4,806 acres, and private landowners manage 3,058 surface acres.

In 2014, the original proponents revised their proposal downward to 2,200 vertically, directionally, and horizontally drilled wells on the same surface area over a 27- to 81-year period. Approximately two-thirds of the total proposed wells would have been in the Wyoming portion of the project area, and one-third would have been in the Colorado portion. In 2016, the proponents further reduced the proposal to 449 wells, with all oil and gas operations located on 47,407 acres in Wyoming.

The BLM was preparing the Draft EIS for the Hiawatha Regional Energy Development Project as revised in 2014, but halted work when the current proponents elected to temporarily stop funding the analysis in 2016. The proponents canceled the proposal by letter dated February 5, 2019. Any new proposal for development in the area will be subject to National Environmental Policy Act analysis, and the existing Hiawatha Programmatic Agreement for cultural resources would be amended accordingly. Because the proponents notified the BLM Rock Springs Field Office of their decision to cancel the proposal, the BLM is canceling the planning process and terminating its preparation of the Draft EIS.

(Authority: 40 CFR 1506.6, 40 CFR 1506.10)

Andrew Archuleta,
Wyoming State Director.

[FR Doc. 2023-08913 Filed 4-26-23; 8:45 am]

BILLING CODE 4331-26-P